DEPARTMENT OF AGRICULTURE

Animal and Plant Health Inspection Service

[Docket No. APHIS-2007-0135]

Citrus Greening and Asian Citrus Psyllid; Availability of a Finding of No Significant Impact

AGENCY: Animal and Plant Health Inspection Service, USDA.

ACTION: Notice of availability.

SUMMARY: We are advising the public that we have prepared a finding of no significant impact relative to a new Federal order that restricts the interstate movement of regulated articles from areas quarantined for citrus greening disease and the Asian citrus psyllid. The finding of no significant impact is based on an environmental assessment that we prepared to document our review and analysis of the potential environmental impacts associated with the implementation of the new Federal order. In a notice published in the Federal Register on November 2, 2007, we made the environmental assessment available to the public for review and comment, but noted that we may have to begin an expanded citrus greening regulatory program in Florida immediately and issue a finding of no significant impact for the environmental assessment before the comment period on the environmental assessment concludes.

DATES: The finding of no significant impact was signed on November 2, 2007.

FOR FURTHER INFORMATION CONTACT: Mr. Stephen R. Poe, Senior Operations Officer, Emergency and Domestic Programs, PPQ, APHIS, 4700 River Road Unit 134, Riverdale, MD 20737-1236; (301) 734-8899.

SUPPLEMENTARY INFORMATION:

Background

Citrus greening, also known as huanglongbing, is considered to be one of the most serious citrus diseases in the world. Citrus greening is a bacterial disease that attacks the vascular system of plants. The bacteria are phloem-limited and cause yellow shoots, blotchy mottling and chlorosis, reduced foliage, and tip dieback of citrus plants. It greatly reduces production, destroys the economic value of the fruit, and can kill trees. Once infected, there is no cure for a tree with citrus greening disease. In areas of the world where citrus greening is endemic, citrus trees decline and die within a few years and may never produce usable fruit. Citrus greening is widespread in Asia, Africa, and the Saudi Arabian Peninsula. It has been reported in Sao Paulo, Brazil. It was first detected in the United States in Miami-Dade County, Florida, in 2005, and now has been confirmed in 28 counties in Florida.

On November 2, 2007, we published a notice ¹ in the Federal Register (72 FR 62204-62205, Docket No. APHIS-2007-0135) in which we advised the public that an environmental assessment had been prepared by the Animal and Plant Health Inspection Service (APHIS) relative to a new Federal order that restricts the interstate movement of regulated articles from areas quarantined for citrus greening disease and the Asian citrus psyllid. The environmental assessment documents our review and analysis of the potential environmental impacts associated with the implementation of the new Federal order. We made the environmental assessment available to the public for review and solicited comments for 30 days ending on December 3, 2007.

¹ You may view the environmental assessment and submit comments on that document by going to http://www.regulations.gov/fdmspublic/component/main?main=DocketDetail&d=APHIS-2007-0135.

In our November 2, 2007, notice, we informed the public that due to the serious and destructive nature of citrus greening disease, we had found it necessary to expand the number of counties in Florida from which the movement of plants that are hosts of citrus greening is present in order to prevent the further spread and infestation of the disease and to expand the areas quarantined due to the presence of Asian citrus psyllid so that host plants can be treated and inspected before being moved interstate.

That notice also stated that, because citrus greening is a highly injurious citrus disease and the Asian citrus psyllid is harmful both as the insect vector of the disease and as a significant citrus pest in its own right, we had determined that it may be necessary to immediately address both the disease and the associated insect pest. This, we explained, would be accomplished by restricting the movement of hosts of citrus greening from areas where the disease is present, and by regulating and treating plants that are hosts of the psyllid from those areas where the insect is present and may be spread through the movement of infested nursery stock.

Based on those considerations, we advised the public that APHIS may have to begin the expanded citrus greening regulatory program in Florida immediately and issue a finding of no significant impact for the environmental assessment before the comment period on the environmental assessment concluded. We stated that if that were to occur, we would still evaluate and respond to all the comments we received on the environmental assessment after the comment period has ended.

On November 2, 2007, APHIS issued the new Federal order quarantining 28 Florida counties for citrus greening and quarantining 32 Texas counties and the entirety of the States of Florida and Hawaii, the commonwealth of Puerto Rico, and the territory of Guam for Asian citrus psyllid. The Federal order restricts the movement of all live host plants and host plant parts from areas quarantined for citrus greening and requires Asian citrus psyllid host material to be inspected, treated, and the accompanied by a limited permit in order to be moved from a quarantined area. Because we have found it necessary to begin the expanded citrus greening regulatory program in Florida immediately, we have likewise found it necessary to issue a finding of no significant impact for the environmental assessment before the comment period on the environmental assessment has concluded.

The finding of no significant impact may be viewed, along with the environmental assessment on which it is based, on the Regulations.gov Web site ² or in our reading room.³ You may request paper copies of the environmental assessment and finding of no significant impact by calling or writing to the person listed under FOR FURTHER INFORMATION CONTACT. Please refer to the title of the environmental assessment when requesting copies.

² See footnote 1.

³ The reading room is located in room 1141 of the USDA South Building, 14th Street and Independence Avenue, SW., Washington, DC. Normal reading room hours are 8 a.m. to 4:30 p.m., Monday through Friday, except holidays. To be sure someone is there to help you, please call (202) 690-2817 before coming.

The environmental assessment and finding of no significant impact have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 27th day of November 2007.
Kevin Shea,
Acting Administrator, Animal and Plant Health Inspection Service.

[FR Doc. E7-23369 Filed 11-30-07; 8:45 am]

BILLING CODE 3410-34-P